DEPARTMENT OF COMMERCE

International Trade Administration

Proposed Information Collection; Comment Request; Application for the President's “E” and “E STAR” Awards for Export Expansion

AGENCY: International Trade Administration (ITA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 8, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jennifer Kirsch, Jennifer.Kirsch@mail.doc.gov, phone (202) 482-5449, fax (202) 482-5362.

SUPPLEMENTARY INFORMATION:

I. Abstract

The President's “E” Award for Excellence in Exporting is our nation's highest award to honor American exporters. “E” Awards recognize firms and organizations for their competitive achievements in world markets, as well as the benefits of their success to the U.S. economy. The President's “E STAR” Award recognizes the sustained superior international marketing performance of “E” Award winners.

II. Method of Collection

The application form is available on the Internet. Applicants are required to submit one electronic version and one hard copy.

III. Data

OMB Control Number: 0625-0065.

Form Number(s): ITA-725P.

Type of Review: Regular submission.

Affected Public: Business or other for-profit organizations.

Estimated Number of Respondents: 10.

Estimated Time Per Response: 20 hours.

Estimated Total Annual Burden Hours: 200.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 4, 2007.
Gwellnar Banks,
Management Analyst, Office of the Chief Information Officer.

[FR Doc. E7-23848 Filed 12-7-07; 8:45 am]

BILLING CODE 3510-FP-P